INTERNATIONAL TRADE COMMISSION

[Investigation Nos. 701-TA-614 and 731-TA-1431 (Preliminary)]

Magnesium From Israel

Determinations

On the basis of the record ¹ developed in the subject investigations, the United States International Trade Commission (“Commission”) determines, pursuant to the Tariff Act of 1930 (“the Act”), that there is a reasonable indication that an industry in the United States is materially injured by reason of imports of magnesium from Israel, provided for in subheadings 8104.11.00, 8104.19.00, and 8104.30.00 of the Harmonized Tariff Schedule of the United States, that are alleged to be sold in the United States at less than fair value (“LTFV”) and to be subsidized by the government of Israel.² ³

¹ The record is defined in sec. 207.2(f) of the Commission's Rules of Practice and Procedure (19 CFR 207.2(f)).

² Magnesium from Israel: Initiation of Less-Than-Fair-Value Investigation 83 FR 58533, (November 20, 2018); and Magnesium from Israel: Initiation of Countervailing Duty Investigation 83 FR 58529 (November 20, 2018).

³ Commissioner Meredith M. Broadbent dissenting.

Commencement of Final Phase Investigations

Pursuant to section 207.18 of the Commission's rules, the Commission also gives notice of the commencement of the final phase of its investigations. The Commission will issue a final phase notice of scheduling, which will be published in the Federal Register as provided in section 207.21 of the Commission's rules, upon notice from the U.S. Department of Commerce (“Commerce”) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On October 24, 2018, US Magnesium LLC, Salt Lake City, Utah, filed petitions with the Commission and Commerce, alleging that an industry in the United States is materially injured and threatened with material injury by reason of subsidized imports of magnesium from Israel and LTFV imports of magnesium from Israel. Accordingly, effective October 24, 2018, the Commission, pursuant to sections 703(a) and 733(a) of the Act (19 U.S.C. 1671b(a) and 1673b(a)), instituted countervailing duty investigation No. 701-TA-614 (Preliminary) and antidumping duty investigation No. 731-TA-1431 (Preliminary).

Notice of the institution of the Commission's investigations and of a public conference to be held in connection therewith was given by posting copies of the notice in the Office of the Secretary, U.S. International Trade Commission, Washington, DC, and by publishing the notice in the Federal Register of October 31, 2018 (83 FR 54778).⁴ The conference was held in Washington, DC, on November 14, 2018, and all persons who requested the opportunity were permitted to appear in person or by counsel.

⁴ Due to the federal government's closure on December 5, 2018 as a mark of respect for George Herbert Walker Bush, these investigations conducted under authority of Title VII of the Tariff Act of 1930 accordingly have been tolled pursuant to 19 U.S.C. 1671a(b)(2), 1673d(b)(2).

The Commission made these determinations pursuant to sections 703(a) and 733(a) of the Act (19 U.S.C. 1671b(a) and 1673b(a)). It completed and filed its determinations in these investigations on December 11, 2018. The views of the Commission are contained in USITC Publication 4860 (December 2018), entitled Magnesium from Israel: Investigation Nos. 701-TA-614 and 731-TA-1431 (Preliminary).

By order of the Commission.
Issued: December 11, 2018.
Lisa Barton,
Secretary to the Commission.

[FR Doc. 2018-27184 Filed 12-14-18; 8:45 am]

BILLING CODE 7020-02-P